DEPARTMENT OF COMMERCE

National Oceanic and Atmospheric Administration

[I.D. 010804A]

Marine Mammals; Permit No. 821-1588-03 and File No. 909-1726-00

AGENCY: National Marine Fisheries Service (NMFS), National Oceanic and Atmospheric Administration (NOAA), Commerce.

ACTION: Receipt of application for amendment and application for permit.

SUMMARY: Notice is hereby given that Texas A&M University, Department of Marine Biology, P.O. Box 1675, Galveston, Texas 77551 (Principal Investigator: Dr. Randall W. Davis) has requested an amendment to scientific research Permit No. 821-1588-01, and Daniel T. Engelhaupt, P.O. Box 197, Picton, New Zealand has applied in due form for a permit to take marine mammals for scientific research.

DATES: Written or telefaxed comments must be received on or before February 20, 2004.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Permit No. 881-1588-03 (Davis) and File No. 909-1726-00 (Engelhaupt): Assistant Regional Administrator for Protected Resources, Southeast Region, NMFS, 9721 Executive Center Drive North, St. Petersburg, FL 33702-2432; phone (813)570-5301; fax (813)570-5517; and

File No. 909-1726-00 (Engelhaupt): Assistant Regional Administrator for Protected Resources, Northeast Region, NMFS, One Blackburn Drive, Gloucester, MA 01930-2298; phone (508)281-9346; fax (508)281-9371.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)713-0376, provided the facsimile is confirmed by hard copy submitted by mail and postmarked no later than the closing date of the comment period.

FOR FURTHER INFORMATION CONTACT: Ruth Johnson (Ruth.Johnson@noaa.gov) or Carrie Hubard (Carrie.w.Hubard@noaa.gov) or Phone: (301)713-2289.

SUPPLEMENTARY INFORMATION: The amendment and application are requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 821-1588-02 (R. Davis) authorizes the permit holder to conduct research under four projects: 1) capture, tag, sample, release Weddell seals (Leptonychotes weddelli) on McMurdo Sound, Antarctica; (2) approach, tag, biopsy, photograph sperm whales (Physeter macrocephalus) in the Gulf of Mexico, and conduct research activities on Odontocetes that may result in Level B harassment; (3) import/export marine mammal specimens obtained from dead animals; and (4) Project IV - Hunting Behavior and Energetics of Free-Ranging Elephant Seals. The permit holder now requests authorization to amend Project II to increase the number of sperm whales to be taken by harassment during photo-identification and behavioral observations to 530 animals. Currently 100 sperm whales may be incidentally harassed during tagging and biopsy sampling of 60 animals.

Danied Engelhauft (File No. 909-1726) requests a permit to biopsy sample and collect naturally sloughed skin from sperm whales (Physeter macrocephalus) and a variety of other non-listed cetacean species in the Gulf of Mexico, North Atlantic Ocean, Caribbean Sea, and Mediterranean Sea. The goal is the continuation of a previous four-year study that analyzes population genetic structure between the Gulf of Mexico, Caribbean Sea, North Atlantic Ocean, and Mediterranean Sea and provides a comparison of these putative geographic populations with those of other geographic areas. The project is part of a multi-year and multi-institution, cross-disciplinary research program to understand the impacts of oil/gas industries and seismic exploration on the endangered sperm whale population in the Gulf of Mexico. Samples would be collected by obtaining skin samples via biopsy dart, sloughed skin sampling, as well using extant samples of stored material obtained from NMFS Southeast and Northeast regional stranding networks. Samples will be exported to the research facilities at the University of Durham's Biological Sciences Laboratory, New Zealand, or to a similar research facility in the United States for genetic sample processing.

Concurrent with the publication of this notice in the Federal Register, NMFS is forwarding copies of this application to the Marine Mammal Commission and its Committee of Scientific Advisors.

Dated: January 13, 2004.
Stephen L. Leathery,
Chief, Permits, Conservation and Education Division, Office of Protected Resources, National Marine Fisheries Service.

[FR Doc. 04-1215 Filed 1-20-04; 8:45 am]

BILLING CODE 3510-22-S